ENVIRONMENTAL PROTECTION AGENCY

[FRL-7137-8]

Agency Information Collection Activities: Continuing Collection; Comment Request; Water Quality Standards

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Water Quality Standards Regulation, EPA ICR Number 0988.08, OMB Control Number 2040-0049. The current ICR expires July 31, 2002. Before submitting the ICR to OMB for review and approval, EPA is soliciting comments on specific aspects of the proposed information collection as described below.

DATES: Comments must be submitted on or before April 8, 2002.

ADDRESSES: United States Environmental Protection Agency; Standards and Health Protection Division (4305), 1200 Pennsylvania Avenue, NW., Washington, DC 20460. A hard copy of an ICR may be obtained without charge by calling the identified information contact individual for each ICR in the For Further Information Contact section. An ICR can also be accessed electronically at http://www.epa.gov/icr.

FOR FURTHER INFORMATION CONTACT: Robert Van Brunt, (202) 260-2630, fax (202) 260-9830, e-mail vanbrunt.robert@epa.gov, and refer to ICR No. 0988.08.

SUPPLEMENTARY INFORMATION: Affected entities: States, Territories and Commonwealths (the District of Columbia, the Commonwealth of Puerto Rico, the Virgin Islands, Guam, American Samoa, and the Commonwealth of the Northern Mariana Islands) and Tribes that establish and submit to EPA for review new or revised water quality standards pursuant to section 303 of the Clean Water Act (CWA).

Title: Water Quality Standards, EPA ICR Number 0988.08, OMB Control Number 2040-0049. The current ICR expires July 31, 2002.

Abstract: Water Quality Standards are provisions of State, Tribal, and Federal law which consist of designated uses for waters of the United States, numeric or narrative water quality criteria to protect the designated uses, and an antidegradation policy to protect existing uses and high quality waters. State and Tribal water quality standards are the foundation for restoring and maintaining the quality of the Nation's waters under the CWA. They are used in several ways including serving as water quality goals for each waterbody, evaluating water quality to determine attainment of CWA goals, helping Federal, State, Tribal, and local governments develop water quality management plans and objectives, and helping State and local governments plan for and protect water supplies.

States are required by Federal law to establish water quality standards. CWA section 303(c) requires States and certain Indian Tribes (those Tribes that have received EPA authorization to administer the water quality standards program and have had their water quality standards approved by EPA) to review and, if appropriate, revise their water quality standards regulations once every three years and to submit to EPA the results of the review. EPA then reviews each State and Tribal submission of new or revised water quality standards for approval or disapproval.

The Water Quality Standards (WQS) Regulation (40 CFR part 131) is the EPA regulation governing the implementation of the water quality standards program. The WQS Regulation describes requirements and procedures for the States and Tribes to develop, review, and revise their water quality standards and EPA procedures for reviewing new or revised water quality standards or for EPA to establish water quality standards under section 303(c)(4) of the CWA. The regulation requires, in some cases, the development and submission of information to EPA. The following paragraphs describe the information collection requirements in 40 CFR part 131.

Section 131.6 establishes minimum requirements for a State or Tribe to submit any new or revised water quality standards to EPA after conducting the review required every three years by section 303(c) of the CWA. The information to be submitted consists of:

(a) Use designations for water bodies consistent with sections 101(a)(2) and 303(c)(2) of the CWA;

(b) methods used and analyses conducted to support water quality standards revisions;

(c) water quality criteria sufficient to protect the designated uses;

(d) an antidegradation policy consistent with 40 CFR 131.12;

(e) certification by the Attorney General or other appropriate legal authority that the water quality standards were duly adopted pursuant to State or Tribal law; and

(f) information which will aid EPA in determining the adequacy of the scientific basis of the water quality standards and information on general policies that may affect the implementation of the standards.

Section 131.8 specifies information that an Indian Tribe must submit to EPA in order to determine whether a Tribe is qualified to administer the Water Quality Standards Program. The application must include the following information: (a) Evidence that the Tribe is recognized by the Secretary of the Interior; (b) a statement that the Tribe is currently carrying out substantial governmental duties and powers over a Federal Indian Reservation; (c) a statement of the Tribe's authority to regulate the quality of the reservation's waters; and (d) a narrative statement describing the capability of the Tribe to administer an effective water quality standards program.

Section 131.7 describes a dispute resolution mechanism that will assist in resolving disputes that arise between States and Tribes over water quality standards on common waterbodies. Implementation of this provision includes collection of information by EPA to determine if initiation of a formal EPA dispute resolution action is justified. Although States and Tribes are not required to request formal EPA dispute resolution action, information collection is necessary where a State or Tribe formally requests EPA intervention.

Additionally, § 131.20 establishes public participation requirements during State and Tribal review and revision of water quality standards. States and Tribes shall hold public hearings at least once every three years for the purpose of reviewing water quality standards and, as appropriate, modifying and adopting standards. Proposed water quality standards revisions and supporting analyses shall be made available to the public before the hearing.

An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology (e.g., permitting electronic submission of responses).

Burden Statement: The existing estimated annual public reporting and recordkeeping burden for this collection of information is estimated to average 2,293 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: States, Territories and Commonwealths, and Tribes.

Estimated Number of Respondents: 83.

Frequency of Response: Once every three years for water quality standards submittal to EPA; once per Tribal application for the water quality standards program; once per dispute resolution request.

Estimated Total Annual Hour Burden: 190,336 hours.

Estimated Total Annualized Cost Burden (O&M and capital/startup costs only): $0.

Send comments regarding these matters, or any other aspect of the information collection, including suggestions for reducing the burden, to the address listed above.

Dated: January 28, 2002.
Elizabeth Southerland,
Acting Director, Office of Science and Technology.

[FR Doc. 02-2709 Filed 2-4-02; 8:45 am]

BILLING CODE 6560-50-P